DEPARTMENT OF TRANSPORTATION

Federal Highway Administration

Rescission of the Notice of Intent for a Supplemental Environmental Impact Statement: Erie and Cattaraugus Counties, NY

AGENCY: Federal Highway Administration (FHWA), Department of Transportation (DOT).

ACTION: Notice.

SUMMARY: The FHWA is issuing this notice to advise the public that we are rescinding the Notice of Intent (NOI) to prepare a Supplemental Environmental Impact Statement (SEIS) for the highway improvement project: US Route 219 Springville to Salamanca, NY Route 39 to NY Route 17 (Interstate 86), Erie and Cattaraugus Counties, New York [New York State Department of Transportation (NYSDOT) Project Identification Number 5101.84].

FOR FURTHER INFORMATION CONTACT: Richard J. Marquis, Division Administrator, FHWA, New York Division, Leo W. O'Brien Federal Building, 11A Clinton Avenue, Suite 719, Albany, New York 12207, Telephone: (518) 431-4127; or Francis P. Cirillo, Regional Director, New York State Department of Transportation, 100 Seneca Street, Buffalo, New York 14203, Telephone: (716) 847-3238.

SUPPLEMENTARY INFORMATION: The FHWA issued a Final Environmental Impact Statement (FEIS) and Record of Decision (ROD) for the US Route 219 Springville to Salamanca project in 2003. The FHWA, in cooperation with the NYSDOT, subsequently intended to prepare a SEIS to supplement the 2003 FEIS. The NOI to prepare a SEIS was published in the Federal Register on August 18, 2009, at 74 FR 41781.

The purpose of the project, as presented in the 2003 FEIS, was to improve capacity, address safety deficiencies, and eliminate a two-lane corridor gap between Springville and Salamanca. The SEIS would have evaluated the effects of a proposal to improve the US Route 219 highway between the Town of Ashford and I-86 near the City of Salamanca, all in Cattaraugus County, New York. As stated in the NOI to prepare the SEIS, alternatives under consideration included: (1) The Null Alternative, taking no action; (2) the Upgrade Alternative, widening the existing two-lane highway to four lanes with the possible inclusion of population center by-passes; and (3) the Freeway Alternative, constructing a four-lane limited access freeway on new location. As stated in the NOI, the proposed improvement would have involved the construction of a new route or the upgrade and rehabilitation of the existing route for a distance of about 25 miles.

Due to economic considerations and the increased demand for funding of vital infrastructure improvement projects in the region, the NOI to prepare a SEIS is hereby rescinded. In accordance with 23 CFR 771.129, the FHWA and NYSDOT will re-evaluate the 2003 FEIS and ROD to determine whether or not the conclusions in the approved NEPA Document and final project decision remain valid. Comments and questions concerning the proposed action should be directed to the NYSDOT or FHWA at the addresses provided above.

Richard J. Marquis,
Division Administrator, HDA-NY, Federal Highway Administration.

[FR Doc. 2022-07981 Filed 4-13-22; 8:45 am]

BILLING CODE 4910-22-P